DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed project, Capital SouthEast Connector—D2 Expressway Project in the City of Rancho Cordova, Sacramento County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before March 16, 2020. If the Federal law that authorizes judicial review of a claim provides a time period of less than 150 days for filing such claim, then that shorter time period still applies.

FOR FURTHER INFORMATION CONTACT: For Caltrans: Laura Loeffler, Branch Chief, Caltrans Office of Environmental Management, M-1 California Department of Transportation-District 3, 703 B Street, Marysville, CA 95901. Office Hours: 8:00 a.m.-5:00 p.m., Pacific Standard time, telephone (530) 741-4592 or email laura.loeffler@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans, in conjunction with the Capital SouthEast Connector Joint Powers Authority (JPA), propose to widen Grant Line Road from a two-lane roadway to a four-lane, access-controlled, expressway with a centered median and an adjacent Class I bike/pedestrian trail on the west side of the alignment. The abbreviated purpose is to improve traffic operations and mobility for multimode travel. Typical project features include lighting at signalized intersections, turn lanes, landscaping, drainage features, frontage/access roads, structural design measures sensitive to wildlife crossings, utility relocations, roadway signage. The project limits start north of the intersection of White Rock Road and end at Jackson Road. The total length of the project is approximately 7.4 miles. The actions by the Federal agencies, and the laws under which such actions were taken, are described in the Final Environmental Assessment (FEA/Finding of No Significant Impact, FONSI), approved on September 17, 2019, and in other documents in the Caltrans' project records. The FEA, FONSI, and other project records are available by contacting Caltrans at the addresses provided above.

This notice applies to all Federal agency decisions as of the issuance date of this notice and all laws under which such actions were taken, including but not limited to:

1. Council on Environmental Quality Regulations (40 CFR 1500 et seq, 23 CFR 771);

2. National Environmental Policy Act of 1969, as amended, 42 U.S.C. 4321 et seq.;

3. Federal-Aid Highway Act of 1970, (23 U.S.C § 109, as amended by FAST Act Section 1404(a), Public Law 114-94, and 23 U.S.C. 128);

4. MAP-21, the Moving Ahead for Progress in the 21st Century Act (Pub. L. 112- 141)

5. Clean Air Act, as amended (42 U.S.C. 7401 et seq. (Transportation Conformity), 40 CFR part 93);

6. Clear Water Act of 1977 and 1987 (33 U.S.C. 1251 et seq.);

7. Federal Water Pollution Control Act of 1972 (see Clean Water Act of 1977 & 1987)

8. Federal Land Policy and Management Act of 1976, Public Law 94-579

9. Noise Control Act of 1972

10. Safe Drinking Water Act of 1944, as amended

11. Endangered Species Act of 1973

12. Executive Order 11990, Protection of Wetlands Executive Order 13112, Invasive Species

13. Executive Order 13186, Migratory Birds

14. Fish and Wildlife Coordination Act of 1934, as amended

15. Wildflowers, Surface Transportation and Uniform Relocation Act of 1987 Section 130

16. Executive Order 11988, Floodplain Management

17. Department of Transportation (DOT) Executive Order 5650.2- Floodplain Management and Protection (April 23,1979)

18. Rivers and Harbors Appropriation Act of 1899, Sections 9 and 10

19. Title VI of the Civil Rights Act of 1964, as amended

20. Executive Order 12898, Federal Actions to Address Environmental 18. Executive Order 13112, Invasive Species;

21. Department of Transportation Act of 1966, Section 4(f)(49 U.S.C. 303 and 23 U.S.C. 138);

22. National Historic Preservation Act of 1966, as amended (54 U.S.C. 306108 et seq.)

(Catalog of Federal Domestic Assistance Program Number 20.205, Highway Planning and Construction. The regulations implementing Executive Order 12372 regarding intergovernmental consultation on Federal programs and activities apply to this program.)

Authority: 23 U.S.C. 139(l)(1).

Issued on: October 9, 2019.
Tashia J. Clemons,
Director, Planning and Environment, Federal Highway Administration, California Division.

[FR Doc. 2019-22581 Filed 10-15-19; 8:45 am]

BILLING CODE 4910-RY-P